DEPARTMENT OF ENERGY

Federal Energy Regulatory Commission

[Docket No. ER99-2671-001, et al.]

Sithe Edgar, LLC, et al.; Electric Rate and Corporate Regulation Filings

August 23, 2002.

The following filings have been made with the Commission. The filings are listed in ascending order within each docket classification.

1. Sithe Edgar, LLC; Sithe New Boston LLC; Sithe Framingham, LLC; Sithe West Medway, LLC; Sithe Wyman, LLC, Sithe Mystic, LLC; Sithe Mystic Development, LLC; Sithe Fore River Development, LLC; Sithe Power Marketing, L.P.; Sithe Energy Marketing, L.P.; AG-Energy, L.P.; Power City Partners, L.P.; Seneca Power Partners, L.P.; and Sterling Power Partners, L.P.

[Docket Nos. ER99-2671-001, ER01-42-004, ER01-41-003, ER99-2404-003, ER02-2202-001, and ER98-2782-003]

Take notice that on August 20, 2002, Sithe Edgar, LLC; Sithe New Boston, LLC; Sithe Framingham, LLC; Sithe West Medway, LLC; Sithe Wyman, LLC; Sithe Mystic, LLC; Sithe Mystic Development, LLC; Sithe Fore River Development, LLC; Sithe Power Marketing, L.P.; AG-Energy, L.P.; Power City Partners, L.P.; Seneca Power Partners, L.P.; and Sterling Power Partners, L.P.; (collectively, the Sithe Entities), tendered for filing a notice of change in status pursuant to section 205 of the Federal Power Act with respect to each entity's authority to engage in wholesale sales of capacity, energy and ancillary services at market-based rates. The change in status involves the sale of indirect ownership interests in the Sithe Entities from Vivendi Universal, S.A.; Energies, USA, S.A.; and certain individual Stockholders to Apollo Energy, LLC.

Comment Date: September 11, 2002.

2. Southern Company Services, Inc.

[Docket Nos. ER02-2015-001 and ER02-2455-000]

Take notice that on August 9, 2002, Southern Company Services, Inc. (SCS), acting on behalf of Georgia Power Company (GPC), filed with the Federal Energy Regulatory Commission (Commission) a Notice of Cancellation of the Interconnection Agreement (Agreement) between Athens Development Company, L.L.C. and GPC (Service Agreement No. 452 under Southern Companies' Open Access Transmission Tariff, Fourth Revised Volume No. 5). An effective date of August 9, 2002 has been requested.

Comment Date: September 6, 2002.

3. New England Power Pool

[Docket No. ER02-2395-001]

Take notice that on August 21, 2002, the New England Power Pool (NEPOOL) Participants Committee submitted in the above-captioned docket a supplemental filing amending its July 31, 2002 filing which requested, in part, that (I) Allied Utility Network LLC (Allied Utility) be accepted for membership in NEPOOL effective August 1, 2002 and that (ii) the Participant status of PSEG Energy Technologies Inc. (PSEG ET) and Public Service Electric and Gas Company (PSE&G together with PSEG ET, the PSEG Affiliates) be terminated as of July 1, 2002. The supplemental filing requests that the July 31 filing be amended to reflect a request from Allied Utility that its membership in NEPOOL be effective as of October 1, 2002 and to reflect a request of the PSEG Affiliates that the termination of the Participant status of PSE&G be made effective as of July 1, 2002 and the termination request of PSEG ET be withdrawn.

The Participants Committee states that copies of these materials were sent to the New England state governors and regulatory commissions and the Participants in NEPOOL.

Comment Date: September 12, 2002.

4. PJM Interconnection, L.L.C.

[Docket No. ER02-2478-000]

Take notice that on August 19, 2002, PJM Interconnection, L.L.C. (PJM) submitted for filing an executed interconnection service agreement among PJM and Global Winds Harvest, Inc. and P&T Technology AG.

PJM requests a waiver of the Commission's 60-day notice requirement to permit the effective date agreed to by the parties. Copies of this filing were served upon each of the parties to the agreement and the state regulatory commissions within the PJM region.

Comment Date: September 9, 2002.

5. Desert Power, L.P.

[Docket No. ER02-2479-000]

Take notice that on August 19, 2002, Desert Power, L.P. filed with the Federal Energy Regulatory Commission (Commission) a Service Agreement between Desert Power, L.P. and PacificCorp.

Comment Date: September 9, 2002.

6. Duke Energy Corporation

[Docket Nos. ER02-2480-000]

Take notice that on August 20, 2002, Duke Energy Corporation (Duke), on behalf of Duke Electric Transmission (Duke ET), tendered for filing a Letter Agreement between Duke ET and Mountain Creek 2001 Trust, as assignee of GenPower Anderson, LLC, under Duke ET's Open Access Transmission Tariff.

Duke seeks an effective date of May 8, 2001 for the Letter Agreement.

Comment Date: September 11, 2002.

7. Wolverine Power Supply Cooperative, Inc.

[Docket No. ER02-2481-000]

Take notice that on August 20, 2002, Wolverine Power Supply Cooperative, Inc., submitted for filing an executed Power Enabling Agreement Between Cinergy Services, Inc. and Wolverine Power Supply Cooperative, Inc., dated February 12, 2001. Wolverine requests that this agreement be designated as Service Agreement No. 15 under its FERC Electric Tariff, Original Volume No. 2.

Wolverine requests an effective date of February 12, 2001 for this Agreement. Wolverine states that a copy of this filing has been served upon Cinergy Services, Inc. and the Michigan Public Service Commission.

Comment Date: September 11, 2002.

8. Southern California Edison Company

[Docket No. ER02-2482-000]

Take notice that on August 21, 2002, Southern California Edison Company (SCE) tendered for filing a Letter Agreement between SCE and WM Energy Solutions, Inc. (WM Energy). The Letter Agreement specifies the terms and conditions under which SCE will begin engineering and design of the facilities necessary to interconnect the El Sobrante Landfill 4 MW generating facility to SCE's electrical system and to provide wholesale Distribution Service.

Copies of this filing were served upon the Public Utilities Commission of the State of California and WM Energy.

Comment Date: September 12, 2002.

Standard Paragraph

E. Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Linwood A. Watson, Jr.,
Deputy Secretary.

[FR Doc. 02-22419 Filed 9-3-02; 8:45 am]

BILLING CODE 6717-01-P